DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of July, 2001.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,292; Gulf States Paper Corp., Maplesville, AL

TA-W-38,522; Red Wing Products, Inc., Brentwood, NY

TA-W-39,505; Cuyahoga Steel and Wire LLC, Solon, OH

TA-W-39,325; Mercersburg Apparel Co., Mercersburg, PA

TA-W-39,365; Eagle Affiliates, Harrision, NJ

In the following cases, the investigation revealed that the criteria for eligibility have not been met for the reasons specified.

Increased imports did not contribute importantly to worker separations at the firm.

TA-W-39,488; Coldwater Machine Co. LLC, Coldwater, OH

TA-W-39,408; Alcoa Fujikura Ltd, El Paso, TX

TA-W-39,591; TRW Automotive Braking Systems, Milford, MI

The workers firm does not produce an article as required for certification under Section 222 of the Trade Act of 1974.

TA-W-39,610; Avecia, Inc., Mt. Pleasant, TN

TA-W-39,567; Guardian Life Insurance Co. Of America, Northeast Regional Office, Lehigh Valley, PA

The investigation revealed that criteria (2) has not been met. Sales or production did not decline during the relevant period as required for certification.

TA-W-39,537; Red Wing Shoe Co., Inc., Danville, KY

Affirmative Determinations for Worker Adjustment Assistance

The following certifications have been issued; the date following the company name and location of each determination references the impact date for all workers of such determination.

TA-W-39,373; The Carbide/Graphite Group, Inc., St. Marys, PA: May 18, 2000

TA-W-38,869; Westfield Tanning, Div., of E.H. Hall, Westfield, PA: March 2, 2000

TA-W-38,856; Garan Manufacturing, Oak Grove, LA: February 20, 2000

TA-W-38,905; Gambella Industries, Nikki Knits Div., Goldsboro, NC: March 12, 2000

TA-W-39,588; Motorola, Inc., iDen Subscriber Div., Plantation, FL: June 27, 2000

TA-W-39,352; Midwest Tanning Co., South Milwaukee, WI: May 4, 2000

TA-W-39,199; Party Shoes, Chicago, IL: April 26, 2000

TA-W-39,105; Exide Technologies, Formerly GNB Technologies, Dunmore, PA: April 5, 2000

TA-W-38,830; Marcegaglia USA, Inc., Damascus Tube, Greenville, PA: February 16, 2000

TA-W-38,596; Matsushita Battery Corp., Storage Battery Div., Columbus, GA: December 26, 1999

TA-W-39,466; Imperial Home Decor Group, Finishing Department, Knoxville, TN: May 29, 2000

TA-W-39,334; Electrolux Home Products, NA, WCI Outdoor Products, Inc., Swainsboro, GA: May 11, 2000

TA-W-39,187; Jenson Apparel Group, Fall River, MA: April 17, 2000

TA-W-39,236; Winky Textiles, Inc., Hauppauge, NY: April 24, 2000

TA-W-39,544; American Apparel, Inc., Lena, MS: June 11, 2000

TA-W-39,514; Guilford Mills, Inc., Greenberg Plant, Greensboro, NC: June 5, 2000

TA-W-39,403; Phelps Dodge Tyrone, Inc., Tyrone, NM: May 24, 2000

TA-W-39,073; Pen-Tab/Stuart Hall, Kansas City, MO: March 29, 2000

TA-W-39,164; Primecast, Inc., South Beloit, IL: April 12, 2000

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of July, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05017; TRW Automotive, Braking Systems, Milford, MI

The investigation revealed that the criteria for eligibility have not been met for the reasons specified.

The workers firm does not produce an article as required for certification under Section 222 of the Trade Act of 1974.

NAFTA-TAA-04938; Alcoa Fujikura Ltd, El Paso, TX

The investigation revealed that criteria (2) has not been met. Sales or production did not decline during the relevant period as required for certification.

NAFTA-TAA-05002; Red Wing Shoe Co., Inc., Danville, KY

Affirmative Determinations NAFTA-TAA

NAFTA-TAA-04925; Fernbrook & Co., Palmerton, PA: May 23, 2000

NAFTA-TAA-04999; Pete's Cutting Services, Hialeah, FL: May 25, 2000

NAFTA-TAA-04771; Ansell Protective Products, Tarboro, NC: April 16, 2000

NAFTA-TAA-04615; Westfield Tanning, Div. Of E.H. Hall, Westfield, PA: March 2, 2000

NAFTA-TAA-04666; Gambella Industries, Nikki Knits Div., Goldsboro, NC: March 12, 2000

NAFTA-TAA-04974; Winky Textiles, Inc., Hauppauge, NY: June 4, 2000

NAFTA-TAA-05084; Guilford Mills, Inc., Greenberg Plant, Greensboro, NC: July 2, 2000

NAFTA-TAA-04802; Pro Manufacturing Co., Killeen, TX: April 20, 2000

NAFTA-TAA-04894; Midwest Tanning Co., South Milwaukee, WI: May 4, 2000

NAFTA-TAA-04961; Steiger Lumber Co., Bessember, MI: May 21, 2000

NAFTA-TAA-04997; American Apparel, Inc., Lena, MS: June 11, 2000

NAFTA-TAA-04891; Electrolux Home Products, NA, WCI Outdoor Products, Swainesboro, GA: May 11, 2000

NAFTA-TAA-04600; Marcegaglia USA, IN., Damascus Tube, Greenville, PA: February 21, 2000

NAFTA-TA-04758; Exide Technologies, GNB Technologies, Dunmore, PA: April 5, 2000

I hereby certify that the aforementioned determinations were issued during the month of July, 2001. Copies of these determinations are available for inspection in Room C-5311, U.S. Department of Labor, 200 Constitution Avenue, N.W., Washington, DC 20210 during normal business hours or will be mailed to persons who write to the above address.

Dated: July 27, 2001.
Edward A. Tomchick,
Director, Division of Trade Adjustment Assistance.

[FR Doc. 01-20472 Filed 8-14-01; 8:45 am]

BILLING CODE 4510-30-M